DEPARTMENT OF ENERGY

Federal Energy Regulatory Commission

[Docket No. EL05-126-000]

Oklahoma Municipal Power Authority v. American Electric Power Service Corporation; Notice of Institution of Proceeding and Refund Effective Date

July 26, 2005.

On July 26, 2005, the Commission issued an order that instituted a proceeding in Docket No. EL05-126-000, pursuant to section 206 of the Federal Power Act (FPA), 16 U.S.C. 824e, concerning the continued justness and reasonableness of American Electric Power Services Corporation's Network Integration Transmission Service Agreement with the Oklahoma Municipal Power Authority. Oklahoma Municipal Power Authority v. American Electric Power Service Corp., 112 FERC ¶ 61,107 (2005).

The refund effective date in Docket No. EL05-126-000, established pursuant to section 206(b) of the FPA, will be 60 days from the date of publication of this notice in the Federal Register.

Magalie R. Salas,
Secretary.

[FR Doc. E5-4156 Filed 8-2-05; 8:45 am]

BILLING CODE 6717-01-P